DEPARTMENT OF ENERGY

Federal Energy Regulatory Commission

Combined Notice of Filings #2

January 11, 2006.

Take notice that the Commission received the following electric rate filings.

Docket Numbers: ER04-268-002; ER98-4159-005; ER99-1293-004.

Applicants: Duquesne Power, L.P.; Duquesne Light Co.; Monmouth Energy, Inc.

Description: Notice of Change in Status re Duquesne LP, Duquesne Light Co, and Monmouth Energy Inc.

Filed Date: January 5, 2006.

Accession Number: 20060109-0099.

Comment Date: 5 p.m. Eastern Time on Thursday, January 26, 2006.

Docket Numbers: ER04-994-001; ER04-657-006; ER04-660-006; ER04-659-006.

Applicants: Boston Generating, LLC; Mystic I, LLC; Mystic Development, LLC; Fore River Development, LLC.

Description: Boston Generating et al. submits notification of non-material change in status related to market rate authority granted to the Applicants.

Filed Date: January 5, 2006.

Accession Number: 20060109-0097.

Comment Date: 5 p.m. Eastern Time on Thursday, January 26, 2006.

Docket Numbers: ER05-1472-002.

Applicants: Michigan Electric Transmission Co., LLC.

Description: Michigan Electric Transmission Co., LLC submits revisions to its Interconnection Facilities Agreement in compliance with Order December 7, 2005.

Filed Date: January 4, 2006.

Accession Number: 20060111-0019.

Comment Date: 5 p.m. Eastern Time on Wednesday, January 25, 2006.

Docket Numbers: ER05-406-000.

Applicants: Williams Power Company, Inc.

Description: Williams Power Co. Inc. et al. submits an Offer of Settlement establishing the terms and conditions for service under Reliability Must-Run Agreement with Williams and the CAISO.

Filed Date: January 6, 2006.

Accession Number: 20060110-0010.

Comment Date: 5 p.m. Eastern Time on Friday, January 27, 2006.

Docket Numbers: ER06-74-001.

Applicants: Commonwealth Edison Company.

Description: Commonwealth Edison Co submits a cancelled designation effective date of January 1, 2006 Rate Schedule No. 80.

Filed Date: January 5, 2006.

Accession Number: 20060109-0096.

Comment Date: 5 p.m. Eastern Time on Thursday, January 26, 2006.

Docket Numbers: ER06-200-002.

Applicants: Big Horn Wind Project LLC.

Description: Big Horn Wind Project LLC submits First Revised Tariff sheets to its FERC Electric Tariff, Original Volume No.1.

Filed Date: January 5, 2006.

Accession Number: 20060109-0098.

Comment Date: 5 p.m. Eastern Time on Thursday, January 26, 2006.

Docket Numbers: ER06-454-000.

Applicants: California Independent System Operator Corporation.

Description: California Independent System Operator Corp. submits this informational filing pursuant to a Stipulation and Agreement approval by the Commission on May 28, 1999.

Filed Date: January 5, 2006.

Accession Number: 20060109-0111.

Comment Date: 5 p.m. Eastern Time on Thursday, January 26, 2006.

Docket Numbers: ER06-455-000.

Applicants: Duquesne Power, LLC.

Description: Duquesne Power LLCP submits notice of succession to all rate schedules and supplements filed by Duquesne Power, L.P.

Filed Date: January 5, 2006.

Accession Number: 20060109-0103.

Comment Date: 5 p.m. Eastern Time on Thursday, January 26, 2006.

Docket Numbers: ER06-456-000.

Applicants: PJM Interconnection, L.L.C.

Description: PJM Interconnection, LLC submits a report of the allocations of cost responsibility for certain transmission upgrades approved by the Board of Managers as part of their Regional Transmission Expansion Plan etc.

Filed Date: January 5, 2006.

Accession Number: 20060109-0041.

Comment Date: 5 p.m. Eastern Time on Thursday, January 26, 2006.

Docket Numbers: ER06-457-000.

Applicants: Ameren Services Company.

Description: Ameren Services Co. on behalf of Central Illinois Light Co. dba AmerenCILCO et al. submits an executed Transmission Interconnection Agreement with the City of Springfield, Illinois et al.

Filed Date: January 5, 2006.

Accession Number: 20060109-0104.

Comment Date: 5 p.m. Eastern Time on Thursday, January 26, 2006.

Docket Numbers: ER06-458-000.

Applicants: El Paso Electric Company.

Description: El Paso Electric Co. submits changes to the Pro Forma Standard Large Generator Interconnection Procedures and Large Generator Interconnection Agreement.

Filed Date: January 5, 2006.

Accession Number: 20060109-0105.

Comment Date: 5 p.m. Eastern Time on Thursday, January 26, 2006.

Docket Numbers: ER06-459-000.

Applicants: IPP Energy LLC.

Description: IPP Energy, LLC submits the amended application for an order accepting market based rate schedule, waiving regulations and granting blanket approvals.

Filed Date: January 4, 2006.

Accession Number: 20060111-0020.

Comment Date: 5 p.m. Eastern Time on Thursday, January 19, 2006.

Docket Numbers: ER06-460-000.

Applicants: Old Dominion Electric Cooperative.

Description: Old Dominion Electric Cooperative submits the application for providing cost-based reactive power and voltage control from generation sources service etc.

Filed Date: January 6, 2006.

Accession Number: 20060111-0024.

Comment Date: 5 p.m. Eastern Time on Friday, January 27, 2006.

Docket Numbers: ER94-1188-037; ER98-4540-006; ER99-1623-006; ER98-1279-008; EL05-99-001.

Applicants: LG&E Energy Marketing Inc.; Louisville Gas & Electric Company; Kentucky Utilities Company, Western Kentucky Energy Corporation; LG&E Energy Marketing Inc., et al.

Description: LG&E Energy Marketing, Inc et al. submits Second Revised Sheet No. 1 et al. to Rate Schedule FERC No. 1 in compliance with FERC's December 1, 2005 Order.

Filed Date: January 3, 2006.

Accession Number: 20060111-0018.

Comment Date: 5 p.m. Eastern Time on Tuesday, January 24, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-558 Filed 1-18-06; 8:45 am]

BILLING CODE 6717-01-P